NATIONAL AERONAUTICS AND SPACE ADMINISTRATION

[Notice 00-093]

NASA Advisory Council (NAC), Aero-Space Technology Advisory Committee (ASTAC); Aviation Operations Systems Subcommittee; Meeting.

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Aviation Operations Systems Subcommittee meeting.

DATES: Monday, September 18, 2000, 1 p.m. to 5 p.m. and Tuesday, September 19, 2000, 8 a.m. to 5 p.m.

ADDRESSES: National Aeronautics and Space Administration, Ames Research Center, Building 262, Room 100, Moffett Field, CA 94035-1000.

FOR FURTHER INFORMATION CONTACT: Mr. Robert A. Jacobsen, National Aeronautics and Space Administration, Ames Research Center, Moffett Field, CA 94035, 650/604-3743.

SUPPLEMENTARY INFORMATION: The meeting will be open to the public up to the seating capacity of the room. The agenda for the meeting is as follows:

—Aerospace Operations Systems Review

—Aircraft Icing Research

—Human Automation Integration Research

—Human Error and Countermeasures Research

—Psychological/Physiological Stressors and Factors Research

It is imperative that the meeting be held on these dates to accommodate the scheduling priorities of the key participants.

Dated: August 15, 2000.
Matthew M. Crouch,
Advisory Committee Management Officer, National Aeronautics and Space Administration.

[FR Doc. 00-21168 Filed 8-18-00; 8:45 am]

BILLING CODE 7510-01-P